DEPARTMENT OF DEFENSE

Office of the Secretary

Charter Amendment of Department of Defense Federal Advisory Committees

AGENCY: Department of Defense.

ACTION: Amendment of Federal Advisory Committee.

SUMMARY: The Department of Defense is publishing this notice to announce that it is amending the charter for the Threat Reduction Advisory Committee (“the Committee”).

FOR FURTHER INFORMATION CONTACT: Jim Freeman, Advisory Committee Management Officer for the Department of Defense, 703-692-5952.

SUPPLEMENTARY INFORMATION: This committee's charter is being amended in accordance with the Federal Advisory Committee Act (FACA) of 1972 (5 U.S.C., Appendix, as amended) and 41 CFR 102-3.50(d).

The Committee is a discretionary Federal advisory committee that provides the Secretary of Defense, through the Under Secretary of Defense for Acquisition, Technology, and Logistics (USD(AT&L)) and the Assistant Secretary of Defense for Nuclear, Chemical, and Biological Defense Programs (ASD(NCB)), independent advice and recommendations on:

a. Reducing the threat to the United States, its military forces, and its allies and partners posed by nuclear, biological, chemical, conventional, and special weapons;

b. Combating WMD to include non-proliferation, counterproliferation, and consequence management;

c. Nuclear deterrence transformation, nuclear material lockdown and accountability;

d. Nuclear weapons effects;

e. The nexus of counterproliferation and counter WMD terrorism; and

f. Other AT&L, NCB, and Defense Threat Reduction Agency (DTRA) mission-related matters, as requested by the USD(AT&L).

The Department of Defense (DoD), through the Office of the USD(AT&L), the Office of the ASD(NCB) Defense Programs, and DTRA, shall provide support, as deemed necessary, for the Committee's performance, and shall ensure compliance with the requirements of the FACA, the Government in the Sunshine Act of 1976 (5 U.S.C. 552b, as amended) (“the Sunshine Act”), governing Federal statutes and regulations, and established DoD policies and procedures.

The Committee shall be composed of no more than 25 members who are eminent authorities in the fields of national defense, geopolitical and national security affairs, WMD, nuclear physics, chemistry, and biology.

The Committee members are appointed by the Secretary of Defense or the Deputy Secretary of Defense and their appointments shall be renewed on an annual basis in accordance with DoD policies and procedures. Those members, who are not full-time or permanent part-time Federal officers or employees, shall be appointed as experts or consultants, pursuant to 5 U.S.C. 3109, to serve as special government employee (SGE) members. Committee members who are full-time or permanent part-time Federal employees shall be appointed, pursuant to 41 CFR 102-3.130(a), to serve as regular government employee (RGE) members.

Committee members shall, with the exception of reimbursement for official Committee-related travel and per diem, serve without compensation, unless otherwise authorized by the Secretary of Defense.

The Secretary of Defense, in consultation with USD(AT&L) and the ASD(NCB), shall select the Committee's Chair and Vice Chair from among the membership approved by the Secretary of Defense or the Deputy Secretary of Defense.

The Secretary of Defense or the Deputy Secretary of Defense may approve the appointment of Committee members for one-to-four year terms of service; however, no member, unless authorized by the Secretary of Defense or the Deputy Secretary of Defense, may serve more than two consecutive terms of service, to include its subcommittees, or serve on more than two DoD Federal advisory committees at one time.

Each Committee member is appointed to provide advice on the basis of his or her best judgment without representing any particular point of view and in a manner that is free from conflict of interest.

The Department, when necessary and consistent with the Committee's mission and DoD policies and procedures, may establish subcommittees, task forces, or working groups to support the Committee. Establishment of subcommittees will be based upon written determination, to include terms of reference, by the Secretary of Defense, the Deputy Secretary of Defense, or the USD(AT&L), as the Committee's Sponsor.

Such subcommittees shall not work independently of the chartered Committee, and shall report their findings and advice solely to the Committee for full deliberation and discussion. Subcommittees have no authority to make decisions and recommendations, verbally or in writing, on behalf of the chartered Committee. No subcommittee or any of its members can update or report directly to the DoD or to any Federal officers or employees.

All subcommittee members shall be appointed in the same manner as the Committee members; that is, the Secretary of Defense or the Deputy Secretary of Defense shall appoint subcommittee members to a term of service of one-to-four years, with annual renewals, even if the member in question is already a Committee member. Subcommittee members shall not serve more than two consecutive terms of service, without approval by the Secretary of Defense or the Deputy Secretary of Defense. Subcommittee members are appointed to provide advice on the basis of their best judgment without representing a particular point of view and in a manner that is free from conflict of interest.

Subcommittee members, if not full-time or part-time government employees, shall be appointed to serve as experts or consultants, pursuant to 5 U.S.C. 3109, to serve as SGE members. Those individuals who are full-time or permanent part-time Federal officers or employees shall be appointed, pursuant to 41 CFR 102-3.130(a), to serve as RGE members. With the exception of reimbursement for official Committee-related travel and per diem, subcommittee members shall serve without compensation.

All subcommittees operate under the provisions of FACA, the Sunshine Act, governing Federal statutes and regulations, and established DoD policies and procedures.

The Designated Federal Officer (DFO), pursuant to DoD policy, shall be a full-time or permanent part-time DoD employee, and shall be appointed in accordance with established DoD policies and procedures.

In addition, the Committee's DFO is required to be in attendance at all committee and subcommittee meetings for the entire duration of each and every meeting. However, in the absence of the Committee's DFO, an Alternate DFO, duly appointed to the Committee, according to the DoD policies and procedures, shall attend the entire duration of the Committee or subcommittee meeting.

The DFO, or the Alternate DFO, shall call all of the Committee's and subcommittee's meetings; prepare and approve all meeting agendas; and adjourn any meeting when the DFO, or the Alternate DFO, determines adjournment to be in the public interest or required by governing regulations or DoD policies and procedures.

Pursuant to 41 CFR 102-3.105(j) and 102-3.140, the public or interested organizations may submit written statements to Committee membership about the Committee's mission and functions. Written statements may be submitted at any time or in response to the stated agenda of planned meeting of the Committee.

All written statements shall be submitted to the DFO for the Committee, and this individual will ensure that the written statements are provided to the membership for their consideration. Contact information for the Committee's DFO can be obtained from the GSA's FACA Database— http://www.facadatabase.gov/.

The DFO, pursuant to 41 CFR 102-3.150, will announce planned meetings of the Committee. The DFO, at that time, may provide additional guidance on the submission of written statements that are in response to the stated agenda for the planned meeting in question.

Dated: October 27, 2015.
Aaron Siegel,
Alternate OSD Federal Register Liaison Officer, Department of Defense.

[FR Doc. 2015-27710 Filed 10-29-15; 8:45 am]

BILLING CODE 5001-06-P